DEPARTMENT OF THE INTERIOR

Fish and Wildlife Service

50 CFR Part 20

RIN 1018-AH79

Migratory Bird Hunting; Late Seasons and Bag and Possession Limits for Certain Migratory Game Birds; Correction

AGENCY: Fish and Wildlife Service, Interior.

ACTION: Final rule; correction.

SUMMARY: The U.S. Fish and Wildlife Service (hereinafter Service or we) published a document in the September 28, 2001, Federal Register prescribing the hunting seasons, hours, areas, and daily bag and possession limits for general waterfowl seasons and those early seasons for which States previously deferred selection. This document corrects errors in the season dates and other pertinent information for the States of Illinois, North Carolina, South Carolina, Texas, and Vermont.

DATES: This rule was effective on September 28, 2001.

FOR FURTHER INFORMATION CONTACT: Jon Andrew, Chief, Division of Migratory Bird Management, U.S. Fish and Wildlife Service, Department of the Interior, (703) 358-1714.

SUPPLEMENTARY INFORMATION: In the September 28, 2001, Federal Register (66 FR 49748), we published a final rule prescribing hunting seasons, hours, areas, and daily bag and possession limits for general waterfowl seasons, certain other migratory bird seasons, and those early seasons for which States previously deferred selection. The rule contained errors in the entries for Illinois, North Carolina, South Carolina, Texas, and Vermont, which are discussed briefly below and corrected by this notice.

We received public comment on the proposed rules for the seasons and limits established by the September 28 final rule. We addressed these comments in final rules published in the August 21, 2001, (66 FR 44010) and September 27, 2001, (66 FR 49478) Federal Registers. The corrections are typographical in nature and involve no substantial changes to the substance in the contents of the prior proposed and final rules.

In rule FR Doc. 01-24292 published September 28, 2001 (66 FR 49748), make the following corrections:

§ 20.105 [Corrected]

1. On page 49756 under the heading Vermont, subheading Canada Geese, the subheadings “Lake Champlain and Interior Zones” and “Connecticut River Zone” are inserted; across from the subheading Lake Champlain and Interior Zones, the season dates of “Oct. 27-Nov. 25” are inserted; across from the subheading Connecticut River Zone, the season dates of “Oct. 2-Nov. 4 & Nov. 21-Dec. 1” are inserted.

2. On page 49756 under the heading Vermont, subheading Light Geese, the subheadings “Lake Champlain and Interior Zones” and “Connecticut River Zone” are inserted; across from the subheading Lake Champlain and Interior Zones, the season dates of “Oct. 10-Dec. 28 & Mar. 1-Mar. 10” are inserted; across from the subheading Connecticut River Zone, the season dates of “Oct. 2-Dec. 16” are inserted.

3. On page 49756 under the heading West Virginia, subheading Canada Geese, subheading Zone 2, the season dates of “Dec. 21 Jan. 31” are corrected to read “Dec. 21-Jan.31.”

4. On page 49757 under the heading Illinois, subheading Brant, the bag and possession limits are corrected to read “1 and 2.” Remove the “2” from under the subheading Brant.

5. On page 49762 under the heading Texas, subheading Geese, subheading East Tier, subheading Light Geese, the season dates “Oct.28-Jan.21” are corrected to read “Oct. 27-Jan. 20.”

6. On page 49766 under the heading North Carolina, the season dates for the youth waterfowl hunting day are corrected to read “Jan. 26 & 27.” Remove “Jan. 26” from under the subheading Ducks and geese.

7. On page 49766 under the heading South Carolina, the season dates for the youth waterfowl hunting day are corrected to read “Jan. 26 & 27.” Remove “Jan. 26 & 27” from under the subheading Ducks and geese.

Dated: October 24, 2001.
Joseph E. Doddridge,
Acting Assistant Secretary for Fish and Wildlife and Parks.

[FR Doc. 01-28296 Filed 11-9-01; 8:45 am]

BILLING CODE 4310-55-P